DEPARTMENT OF THE INTERIOR

National Park Service

[NPS-WASO-NRNHL-13236; PPWOCRADI0, PCU00RP14.R50000]

National Register of Historic Places; Notification of Pending Nominations and Related Actions

Nominations for the following properties being considered for listing or related actions in the National Register were received by the National Park Service before May 25, 2013. Pursuant to section 60.13 of 36 CFR part 60, written comments are being accepted concerning the significance of the nominated properties under the National Register criteria for evaluation. Comments may be forwarded by United States Postal Service, to the National Register of Historic Places, National Park Service, 1849 C St. NW., MS 2280, Washington, DC 20240; by all other carriers, National Register of Historic Places, National Park Service, 1201 Eye St. NW., 8th floor, Washington, DC 20005; or by fax, 202-371-6447. Written or faxed comments should be submitted by July 3, 2013. Before including your address, phone number, email address, or other personal identifying information in your comment, you should be aware that your entire comment—including your personal identifying information—may be made publicly available at any time. While you can ask us in your comment to withhold your personal identifying information from public review, we cannot guarantee that we will be able to do so.

Dated: May 31, 2013.
J. Paul Loether,
Chief, National Register of Historic Places/National Historic Landmarks Program.

ALABAMA

Dallas County

Tabernacle Baptist Church, (Civil Rights Movement in Selma, Alabama MPS)

1431 Broad St., Selma, 13000469

Lawrence County

Boxwood Plantation Slave Quarter, 20416 AL 20, Courtland, 13000470

Tallapoosa County

Dadeville Historic District, Lafayette, East, South, S. Tallassee & West Sts., Dadeville, 13000471

CALIFORNIA

Contra Costa County

Dollar, Robert Stanley Sr., House, 1015 Stanley Dollar Dr., Walnut Creek, 13000472

Orange County

Hansen, George, House, 400B N. West St., Anaheim, 13000473

Woelke, John, House, 400B N. West St., Anaheim, 13000474

KENTUCKY

Franklin County

Knight—Taylor—Hockensmith House, 4350 Peaks Mill Rd., Frankfort, 13000475

Jefferson County

Breslin Building, 305 W. Broadway, Louisville, 83004589

Filson Club, The, 118 W. Breckinridge St., Louisville, 13000476

Wolfe County

Wolfe County High School, 166 Wolfe County Elementary School Rd., Campton, 13000477

MICHIGAN

Alpena County

Norwegian Lutheran Church Complex, 10430 S. Leer Rd. (Long Rapids Township), Leer, 13000478

Wayne County

Norwayne Historic District, Generally bounded by Palmer, Wildwood, Glenwood & Merriman Rds., Wayne County Lower Rouge Pkwy., Westland, 13000479

NEW JERSEY

Essex County

Glen Ridge Historic District (Boundary Increase II), Ridgewood, Sommer, Hawthorne, Victor, Forest, Oakwood, Watchung, Prescott & Sunset Aves., Brooklawn & Stonehouse Rds., Glen Ridge Borough, 13000480

OREGON

Washington County

Oak Hills Historic District, Roughly bounded by NW. West Union & Cornell Rds. NW., 143rd Ave., Bethany Blvd., Beaverton, 13000482

Yamhill County

Lamson Ranch, 37845 SW. Dent Rd., Willamina, 13000483

[FR Doc. 2013-14372 Filed 6-17-13; 8:45 am]

BILLING CODE 4312-51-P